DEPARTMENT OF ENERGY

Federal Energy Regulatory Commission

[Docket No. PF08-25-000]

Colorado Interstate Gas Company; Notice of Intent To Prepare an Environmental Assessment for the Proposed Raton 2010 Expansion Project, Request for Comments on Environmental Issues, and Notice of Public Scoping Meetings

August 27, 2008.

The staff of the Federal Energy Regulatory Commission (FERC or Commission) will prepare an environmental assessment (EA) that will identify and address the environmental impacts that could result from the construction and operation of the Raton 2010 Expansion Project proposed by Colorado Interstate Gas Company (CIG). The EA will be used by the Commission in its decisionmaking process to determine whether the project is in the public convenience and necessity.

This notice announces the opening of the scoping process the Commission will use to gather input from the public and interested agencies on the project. Your input will help determine which issues need to be evaluated in the EA. Please note that the scoping period for this Notice will close on September 26, 2008. This is not your only opportunity to provide comments. Details on how to submit comments are provided in the Public Participation section of this notice.

Comments may be submitted in written form or verbally. In lieu of, or in addition to, sending written comments, you are invited to attend our public scoping meetings that have been scheduled in the project area. Three public scoping meetings are scheduled to be held at 7 p.m. on September 8, 2008 (MST) at the Huerfano County Community Center in Walsenburg, Colorado, 7 p.m. on September 9, 2008 at the McHarg Park Community Center in Avondale, Colorado, and at 7 p.m. on September 10, 2008 at the Trinidad State Junior College in Trinidad, Colorado. Additional details of the public scoping meetings are provided in the public participation section of this notice.

This notice is being sent to affected landowners; federal, state, and local government agencies; elected officials; environmental and public interest groups; Native American tribes; other interested parties; and local libraries and newspapers; all of which are encouraged to submit comments on the proposed project.

If you are a landowner receiving this notice, you may be contacted by a CIG representative about the acquisition of an easement to construct, operate, and maintain the proposed project facilities. The pipeline company would seek to negotiate a mutually acceptable agreement. However, if the project is approved by the FERC, that approval conveys with it the right of eminent domain. Therefore, if easement negotiations fail to produce an agreement, the pipeline company could initiate condemnation proceedings in accordance with state law.

A fact sheet prepared by the FERC entitled “An Interstate Natural Gas Facility on My Land? What Do I Need To Know?” is available for viewing on the FERC Internet Web site (http://www.ferc.gov). This fact sheet addresses a number of typically asked questions, including the use of eminent domain and how to participate in the FERC's proceedings.

Summary of the Proposed Project

CIG proposes to construct the 118 miles of 16-inch diameter pipeline in Las Animas, Huerfano, Pueblo, and El Paso Counties, Colorado in two segments. Certain aboveground facilities are also proposed, i.e. meter stations. More specifically, CIG proposed the following project components:

• Spanish Peaks Lateral Line 247A—a 27-mile 16-inch diameter pipeline from the existing Line 222A in Las Animas County, Colorado to the intersection of existing Line 27A near the town of Aguilar in Las Animas County, Colorado;

• Aguilar Lateral Line 248A—a 91-mile 16-diameter pipeline from the existing Line 27A near the town of Aguilar, Colorado northerly through Huerfano and Pueblo Counties, Colorado to the intersection of existing Line 212A in El Paso County, Colorado; and

• One new Kennedy Meter Station in Las Animas County, Colorado, and modify the existing West Canyon Meter Station in Las Animas County, Colorado and the existing Bowie Meter Station in Weld County, Colorado.

The Project would increase firm capacity into CIG's system by 130,000 dekatherms per day (Dth/d). CIG plans to file an application by January of 2009.

A map depicting CIG's proposed facilities is attached to this notice as Appendix 1.¹

¹ The appendices referenced in this notice are not being printed in the Federal Register. Copies are available from the Commission's Web site at the eLibrary link or from the Commission's Public Reference Room or by calling (202) 502-8371. For instructions on connecting to eLibrary refer to the public participation section of this notice. For instructions on connecting to eLibrary, refer to the “Additional Information” section at the end of this notice. Copies of the appendices were sent to all those receiving this notice in the mail. Requests for detailed maps of the proposed facilities should be made directly to CIG.

Land Requirements for Construction

As proposed, the typical construction right-of-way for the project laterals would be 100-feet-wide for the Spanish Peaks Lateral and 85-feet-wide for the Aguilar Lateral. Following construction, CIG has proposed to retain a 50-foot-wide permanent right-of-way for operation of the project.

Based on preliminary information, construction and operation of the proposed lateral and associated aboveground facilities would affect about 1,301 acres of land. Following construction, about 715 acres would be maintained as permanent right-of-way, and about 1.3 acres of land would be maintained as new aboveground facility sites. The remaining temporary workspace would be restored and allowed to revert to its former use.

The EA Process

The National Environmental Policy Act (NEPA) requires the Commission to take into account the environmental impacts that could result from the approval of an interstate natural gas pipeline. By this notice, we ² are also asking federal, state, and local agencies with jurisdiction and/or special expertise with respect to environmental issues to formally cooperate with us in the preparation of the EA.

² “We,” “us,” and “our” refer to the environmental staff of the FERC's Office of Energy Projects.

Although no formal application has been filed, the FERC staff has already initiated its NEPA review under the Commission's Pre-filing Process. The purpose of the Pre-filing Process is to encourage the early involvement of interested stakeholders and to identify and resolve issues before an application is filed with the FERC.

The purpose of the Pre-filing Process is to seek public and agency input early in the project planning phase and encourage involvement by interested stakeholders in a manner that allows for the early identification and resolution of environmental issues. We will work with all interested stakeholders to identify and attempt to address issues before CIG files its application with the FERC. A diagram depicting the environmental review process for the proposed project is attached to this notice as Appendix 2.

NEPA also requires the FERC to discover and address concerns the public may have about proposals. This process is referred to as “scoping.” The main goal of the scoping process is to focus the analysis in the EA on the environmental issues. By this notice, we are requesting public comments on the scope of the issues to address in the EA. All comments received will be considered during the preparation of the EA. As part of the Pre-filing Process review, CIG sponsored public open houses in the project area to explain the environmental review process to interested stakeholders and take comments about the project.

In the EA we will discuss impacts that could occur as a result of the construction and operation of the proposed project under these general headings:

• Geology and Soils;

• Water Resources;

• Wetlands and Vegetation;

• Fish, Wildlife, Threatened and Endangered Species;

• Land Use, Recreation, and Visual Resources;

• Air Quality and Noise;

• Cultural Resources;

• Reliability and Safety; and

• Cumulative environmental impacts.

In the EA, we will also evaluate possible alternatives to the proposed project or portions of the project, and make recommendations on how to lessen or avoid impacts on affected resources.

Our independent analysis of the issues will be in the EA. The EA will be published and mailed to federal, state, and local agencies, public interest groups, interested individuals, affected landowners, newspapers, libraries, and the Commission's official service list for this proceeding. A 30-day comment period will be allotted for review of the EA. We will consider all comments on the EA before we make our recommendations to the Commission. To ensure that your comments are considered, please follow the instructions in the Public Participation section of this notice.

Public Participation

You can make a difference by providing us with your specific comments or concerns about the proposed project. By becoming a commentor, your concerns will be addressed in the EA and considered by the Commission. Your comments should focus on the potential environmental effects, reasonable alternatives (including alternative facility sites and pipeline routes), and measures to avoid or lessen environmental impact. The more specific your comments, the more useful they will be. To ensure that your comments are timely and properly recorded, please send in your comments so that they will be received in Washington, DC on or before September 26, 2008.

For your convenience, there are three methods in which you can use to submit your comments to the Commission. In all instances please reference the project docket number (Docket No. PF08-25-000) with your submission. The docket number can be found on the front of this notice. The Commission encourages electronic filing of comments and has dedicated eFiling expert staff available to assist you at 202-502-8258 or efiling@ferc.gov.

1. You may file your comments electronically by using the Quick Comment feature, which is located on the Commission's Internet Web site at http://www.ferc.gov under the link to Documents and Filings. A Quick Comment is an easy method for interested persons to submit text-only comments on a project;

2. You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

3. You may file your comments via mail to the Commission by sending an original and two copies of your letter to: Kimberly D. Bose, Secretary, Federal Energy Regulatory Commission, 888 First St., NE., Room 1A,Washington, DC 20426;

• Label one copy of your comments for the attention of OEP/DG2E/Gas Branch 2, PJ-11.2

• Reference Docket No. PF08-25-000 on the original and both copies.

The three public scoping meetings are scheduled at the locations described below:

Date and time | Location
September 8, 2008, 7 p.m.-9:30 p.m. | Huerfano County Community Center, 928 Russell Ave., Walsenburg, CO 81089, 719-738-1910.
September 9, 2008, 7 p.m.-9:30 p.m. | McHarg Park Community Center, 405 2nd Street, Avondale, CO 81022, 719-583-2002.
September 10, 2008, 7 p.m.-9:30 p.m. | Trinidad State Junior College, Berg Building Room 217, 600 Prospect Street, Trinidad, CO 81082, 719-846-5533.

Environmental Mailing List

If you received this notice, you are on the environmental mailing list for this project. If you do not want to send comments at this time, but still want to remain on our mailing list, please return the Information Request (Appendix 3). We may mail the EA for comment. If you are interested in receiving it, please return the Information Request. If you do not return the Information Request, you will be removed from the Commission's environmental mailing list.

Additional Information

Once CIG formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Additional information about the project is available from the Commission's Office of External Affairs, at 1-866-208-FERC or on the FERC Internet Web site (http://www.ferc.gov) using the “eLibrary” link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Public meetings or site visits will be posted on the Commission's calendar located at http://www.ferc.gov/EventCalendar/EventsList.aspx along with other related information.

Finally, CIG has established a Web site for this project at http://www.elpaso.com/ratonexpansion/default.shtm. The Web site includes a project overview, newsletters, and answers to frequently asked questions. CIG has also established a single point of contact, Mr. David R. Anderson, for additional questions or information at 1-877-598-5263 or by e-mail at david.r.anderson@elpaso.com.

Kimberly D. Bose,
Secretary.

[FR Doc. E8-20503 Filed 9-3-08; 8:45 am]

BILLING CODE 6717-01-P